DEPARTMENT OF TRANSPORTATION

Federal Transit Administration

[FTA Docket No. FTA 2024-0014]

Agency Information Collection Activity Under OMB Review: Survey of FTA Stakeholders

AGENCY: Federal Transit Administration, Department of Transportation (DOT).

ACTION: Notice of request for comments.

SUMMARY: In compliance with the Paperwork Reduction Act of 1995, this notice announces that the Information Collection Requirements (ICRs) abstracted below have been forwarded to the Office of Management and Budget (OMB) for review and comment. The ICR describe the nature of the information collection and their expected burdens.

DATES: Comments must be submitted on or before November 27, 2024.

ADDRESSES: Written comments and recommendations for the proposed information collection should be sent within 30 days of publication of this notice to https://www.reginfo.gov/public/do/PRAMain. Find this particular information collection by selecting “Currently under Review—Open for Public Comments” or by using the search function.

Comments Are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology. A comment to OMB is best assured of having its full effect if OMB receives it within 30 days of publication of this notice in the Federal Register.

FOR FURTHER INFORMATION CONTACT: Tia Swain, Office of Administration, Management Planning Division, 1200 New Jersey Avenue SE, Mail Stop TAD-10, Washington, DC 20590 (202) 366-0354 or tia.swain@dot.gov.

SUPPLEMENTARY INFORMATION: The Paperwork Reduction Act of 1995 (PRA), Public Law 104-13, Section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On August 12, 2024, FTA published a 60-day notice (89 FR 65707) in the Federal Register soliciting comments on the ICR that the agency was seeking OMB approval. FTA received no comments after issuing this 60-day notice. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507 (b)-(c); 5 CFR 1320.12(d); see also 60 FR 44978, 44983. OMB believes that the 30-day notice informs the regulated community to file relevant comments and affords the agency adequate time to digest public comments before it renders a decision. 60 FR 44983. Therefore, respondents should submit their respective comments to OMB within 30 days of publication to best ensure having their full effect. 5 CFR 1320.12(c); see also 60 FR 44983.

The summaries below describe the nature of the information collection requirements (ICRs) and the expected burden. The requirements are being submitted for clearance by OMB as required by the PRA.

Title: Survey of FTA Stakeholders.

OMB Control Number: 2132-0564.

Background: The Federal Transit Administration (FTA) is requesting an extension without change to the customer service survey of its stakeholders. FTA is required to identify its stakeholders and address how the agency will provide services in a manner that seeks to streamline service delivery and improve the experience of its customers. FTA is seeking a three-year approval of an existing information collection that will allow FTA to collect data from transit agencies, states, tribal governments, and metropolitan planning organizations. FTA will utilize the survey to assess how its services are perceived by its customers, learn about opportunities for improvement and establish goals to measure results. The data captured from the survey will provide this information and enable FTA to make improvements where necessary. The survey will be limited to data collections that solicit voluntary opinions and will not involve information that is required by regulations. Respondents are split into two groups. Group A includes Chief Executive Officers (CEOs) and other executive leaders of transit agencies, state DOTs, and other FTA stakeholders. Group B includes unit supervisors and professional staff such as engineers, urban planners and budget analysts from the same organizations. FTA will utilize the survey to assess how its services are perceived by its customers, learn about opportunities for improvement and establish goals to measure results. The information obtained from the survey will provide insights into customer or stakeholder perceptions, experiences and expectations; provide an early warning of issues with service; or focus attention on areas where communication, training or changes in operations might improve delivery of products or services.

Respondents: State Departments of Transportation (DOTs), Metropolitan Planning Organizations (MPOs), Transit Authorities, States, and Local Government Units, Indian Tribes.

Estimated Total Number of Respondents: 8,177.

Estimated Total Number of Responses: 8,177.

Estimated Total Annual Burden: 1,022.

Frequency: Biennial.

Kusum Dhyani,
Director, Office of Management Planning.

[FR Doc. 2024-25003 Filed 10-25-24; 8:45 am]

BILLING CODE 4910-57-P